DEPARTMENT OF TRANSPORTATION

Federal Aviation Administration

14 CFR Part 39

[Docket No. FAA-2017-0561; Product Identifier 2016-NM-141-AD; Amendment 39-19043; AD 2017-19-13]

RIN 2120-AA64

Airworthiness Directives; Airbus Airplanes

AGENCY: Federal Aviation Administration (FAA), Department of Transportation (DOT).

ACTION: Final rule.

SUMMARY: We are superseding Airworthiness Directive (AD) 2001-16-01, which applied to certain Airbus Model A330-301, -321, -322, -341, and -342 airplanes, and certain Model A340 series airplanes; and AD 2014-17-06, which applied to all Airbus Model A330-200 series airplanes, Model A330-200 Freighter series airplanes, and Model A330-300 series airplanes. AD 2001-16-01 required inspections for cracking of the aft cargo compartment door, and corrective action if necessary. AD 2014-17-06 required revising the maintenance or inspection program, as applicable, to incorporate structural inspection requirements. This AD requires revising the maintenance or inspection program, as applicable, to incorporate new or revised airworthiness limitation requirements; and removing airplanes from the applicability. This AD was prompted by a determination that more restrictive maintenance instructions and airworthiness limitations are necessary. We are issuing this AD to address the unsafe condition on these products.

DATES: This AD is effective October 25, 2017.

The Director of the Federal Register approved the incorporation by reference of certain publications listed in this AD as of October 25, 2017.

The Director of the Federal Register approved the incorporation by reference of certain other publications listed in this AD as of October 8, 2014 (79 FR 52181, September 3, 2014).

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0561.

Examining the AD Docket

You may examine the AD docket on the Internet at http://www.regulations.gov by searching for and locating Docket No. FAA-2017-0561; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Section, Transport Standards Branch, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2001-16-01, Amendment 39-12369 (66 FR 40874, August 6, 2001) (“AD 2001-16-01”), which applied to certain Airbus Model A330-301, -321, -322, -341, and -342 airplanes, and certain Model A340 series airplane; and AD 2014-17-06, Amendment 39-17959 (79 FR 52181, September 3, 2014) (“AD 2014-17-06”), which applied to all Airbus Model A330-200 series airplanes, Model A330-200 Freighter series airplanes, and Model A330-300 series airplanes. AD 2014-17-06 superseded AD 2011-17-08, Amendment 39-16772 (76 FR 53303, August 26, 2011). The NPRM published in the Federal Register on June 20, 2017 (82 FR 28020). The NPRM was prompted by a determination that more restrictive maintenance instructions and airworthiness limitations are necessary. The NPRM proposed to require revising the maintenance or inspection program, as applicable, to incorporate new or revised airworthiness limitation requirements; and to remove airplanes from the applicability. We are issuing this AD to detect and correct fatigue cracking, damage, and corrosion in a certain structure, which could result in reduced structural integrity of the airplane.

The European Aviation Safety Agency (EASA), which is the Technical Agent for the Member States of the European Union, has issued EASA Airworthiness Directive 2016-0152, dated July 27, 2016 (referred to after this as the Mandatory Continuing Airworthiness Information, or “the MCAI”), to correct an unsafe condition for all Airbus Model A330-200 Freighter, -200, and -300 series airplanes; and Model A340-200, -300, -500, and -600 series airplanes. The MCAI states:

The airworthiness limitations are currently defined and published in the Airbus A330 and A340 Airworthiness Limitations Section (ALS) documents.

The airworthiness limitations applicable to the Damage Tolerant Airworthiness Limitation Items (DT-ALI), which are approved by EASA, are specified in Airbus A330 and A340 ALS Part 2. Failure to comply with these instructions could result in an unsafe condition [fatigue cracking, damage, and corrosion in a certain structure, which could result in reduced structural integrity of the airplane].

EASA issued AD 2012-0211 (for A330 aeroplanes) [which corresponds to FAA AD 2014-17-06] and AD 2013-0127 (for A340 aeroplanes) [which corresponds to FAA AD 2001-16-01] to require the actions as specified in Airbus A330 and A340 ALS Part 2 at original issue and Revision 01, respectively.

Since those [EASA] ADs were issued, Airbus issued Revision 01 and Revision 02, respectively, of Airbus A330 and A340 ALS Part 2, to introduce more restrictive maintenance requirements and/or airworthiness limitations.

For the reason described above, this [EASA] AD retains the requirements of EASA AD 2012-0211 and AD 2013-0127, which are superseded, and requires accomplishment of the actions specified in Airbus A330 ALS Part 2 Revision 01 including Variation 1.1 and Variation 1.2, or A340 ALS Part 2 Revision 02 including Variation 2.1 and Variation 2.2, as applicable (hereafter collectively referred to as `the applicable ALS' in this [EASA] AD).

In addition, this [EASA] AD also supersedes DGAC [Direction Générale de l'Aviation Civile] France AD 2001-126(B), whose requirements applicable to A330 aeroplanes have been transferred into Airbus A330 ALS Part 2, and supersedes DGAC France AD 2001-124(B), EASA AD 2012-0031 and AD 2012-0167, whose requirements applicable to A340 aeroplanes have been transferred into Airbus A340 ALS Part 2 [EASA ADs 2001-124(B) and 2001-126(B) correspond with FAA AD 2001-16-01].

You may examine the MCAI in the AD docket on the Internet at http://www.regulations.gov by searching for and locating Docket No. FAA-2017-0561.

Comments

We gave the public the opportunity to participate in developing this AD. We received no comments on the NPRM or on the determination of the cost to the public.

Conclusion

We reviewed the available data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information, which describes airworthiness limitation requirements for damage-tolerant airworthiness limitation items. These documents are distinct since they provide different limitation requirements.

• Airbus A330 ALS Part 2, DT-ALI, Revision 01, issue 02, dated November 30, 2015.

• Airbus A330 ALS Part 2, DT-ALI, Variation 1.1, dated December 15, 2015.

• Airbus A330 ALS Part 2, DT-ALI, Variation 1.2, dated May 27, 2016.

This service information is reasonably available because the interested parties have access to it through their normal course of business or by the means identified in the ADDRESSES section.

Costs of Compliance

We estimate that this AD affects 101 airplanes of U.S. registry.

The actions required by AD 2014-17-06, and retained in this AD, take about 1 work-hour per product, at an average labor rate of $85 per work-hour. Required parts cost about $0 per product. Based on these figures, the estimated cost of the actions that were required by AD 2014-17-06 is $85 per product.

We also estimate that it would take about 1 work-hour per product to comply with the basic requirements of this AD. The average labor rate is $85 per work-hour. Required parts would cost about $0 per product. Based on these figures, we estimate the cost of this AD on U.S. operators to be $8,585, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directives (AD) 2001-16-01, Amendment 39-12369 (66 FR 40874, August 6, 2001); and AD 2014-17-06, Amendment 39-17959 (79 FR 52181, September 3, 2014); and

b. Adding the following new AD:

2017-19-13 Airbus: Amendment 39-19043; Docket No. FAA-2017-0561; Product Identifier 2016-NM-141-AD.

(a) Effective Date

This AD is effective October 25, 2017.

(b) Affected ADs

This AD replaces AD 2001-16-01, Amendment 39-12369 (66 FR 40874, August 6, 2001) (“AD 2001-16-01”); and AD 2014-17-06, Amendment 39-17959 (79 FR 52181, September 3, 2014) (“AD 2014-17-06”).

(c) Applicability

This AD applies to the Airbus airplanes identified in paragraphs (c)(1), (c)(2), and (c)(3) of this AD, certificated in any category, with an original certificate of airworthiness or original export certificate of airworthiness issued on or before May 27, 2016.

(1) Airbus Model A330-201, -202, -203, -223, and -243 airplanes.

(2) Airbus Model A330-223F and -243F airplanes.

(3) Airbus Model A330-301, -302, -303, -321, -322, -323, -341, -342, and -343 airplanes.

(d) Subject

Air Transport Association (ATA) of America Code 05, Periodic inspections.

(e) Reason

This AD was prompted by a determination that more restrictive maintenance instructions and airworthiness limitations are necessary. We are issuing this AD to detect and correct fatigue cracking, damage, and corrosion in a certain structure, which could result in reduced structural integrity of the airplane.

(f) Compliance

Comply with this AD within the compliance times specified, unless already done.

(g) Retained Requirement: Maintenance or Inspection Program Revision, With a New Terminating Action

This paragraph restates the requirements of paragraph (i) of AD 2014-17-06, with a new terminating action. Accomplishing the revision required by paragraph (j) of this AD terminates the requirements of this paragraph.

(1) Within 3 months after October 8, 2014 (the effective date of AD 2014-17-06): Revise the maintenance or inspection program, as applicable, by incorporating Airbus Document AI/SE-M4/95A.0089/97, “A330 Airworthiness Limitation Items,” Issue 19, dated March 23, 2012; “Variation to Issue 19 of ALI Document (referenced in ALS Part 2) Damage Tolerant Airworthiness Limitation Items (DT-ALI),” variation reference 0GVLG120018/C0S, dated October 24, 2012; and “Variation to Issue 19 of ALI Document (referenced in ALS Part 2) Damage Tolerant Airworthiness Limitation Items (DT-ALI),” variation reference 0GVLG130002/C01, dated March 26, 2013.

(2) Comply with all applicable instructions and airworthiness limitations included in Airbus Document AI/SE M4/95A.0089/97, “A330 Airworthiness Limitation Items,” Issue 19, dated March 23, 2012; “Variation to Issue 19 of ALI Document (referenced in ALS Part 2) Damage Tolerant Airworthiness Limitation Items (DT-ALI),” variation reference 0GVLG120018/C0S, dated October 24, 2012; and “Variation to Issue 19 of ALI Document (referenced in ALS Part 2) Damage Tolerant Airworthiness Limitation Items (DT-ALI),” variation reference 0GVLG130002/C01, dated March 26, 2013. The initial compliance times for the actions specified in Airbus Document AI/SE-M4/95A.0089/97, “A330 Airworthiness Limitation Items,” Issue 19, dated March 23, 2012; “Variation to Issue 19 of ALI Document (referenced in ALS Part 2) Damage Tolerant Airworthiness Limitation Items (DT-ALI),” variation reference 0GVLG120018/C0S, dated October 24, 2012; and “Variation to Issue 19 of ALI Document (referenced in ALS Part 2) Damage Tolerant Airworthiness Limitation Items (DT-ALI),” 0GVLG130002/C01, dated March 26, 2013; are at the times specified in Airbus Document AI/SE-M4/95A.0089/97, “A330 Airworthiness Limitation Items,” Issue 19, dated March 23, 2012; “Variation to Issue 19 of ALI Document (referenced in ALS Part 2) Damage Tolerant Airworthiness Limitation Items (DT-ALI),” variation ref. 0GVLG120018/C0S, dated October 24, 2012; and “Variation to Issue 19 of ALI Document (referenced in ALS Part 2) Damage Tolerant Airworthiness Limitation Items (DT-ALI),” variation ref. 0GVLG130002/C01, dated March 26, 2013; or within 3 months after October 8, 2014 (the effective date of AD 2014-17-06), whichever occurs later.

(h) Retained Provision: Optional Compliance, With a New Terminating Action

This paragraph restates the provision in paragraph (j) of AD 2014-17-06, with a new terminating action. Compliance with tasks 533021-02-01, 533021-02-02, and 533021-02-03, specified in “Variation to Issue 19 of ALI Document (referenced in ALS Part 2) Damage Tolerant Airworthiness Limitation Items (DT-ALI),” variation ref. 0GVLG120022/C0S, dated December 21, 2012, may be used as a method of compliance to tasks 533021-01-01, 533021-01-02, 533021-01-03 specified in Section 2.2.1 and 2.2.2 of Section 2, “Airworthiness Limitations,” of Airbus Document AI/SE M4/95A.0089/97, “A330 Airworthiness Limitation Items,” Issue 19, dated March 23, 2012. Accomplishing the revision required by paragraph (j) of this AD terminates the provision specified in this paragraph.

(i) Retained Requirement: No Alternative Intervals or Limits, With a New Exception

This paragraph restates the requirements of paragraph (k) of AD 2014-17-06, with a new exception. Except as provided by paragraph (h) of this AD and as required by paragraph (j) of this AD, after the maintenance or inspection program, as applicable, has been revised as required by paragraph (g) of this AD, no alternative actions (e.g., inspections) or intervals may be used unless the actions or intervals are approved as an alternative method of compliance (AMOC) under the provisions of paragraph (l)(1) of this AD.

(j) New Requirement: Maintenance or Inspection Program Revision

Within 3 months after the effective date of this AD: Revise the maintenance or inspection program, as applicable, by incorporating the service information specified in paragraphs (j)(1), (j)(2), and (j)(3) of this AD. The initial compliance times for the actions specified in the service information referenced in paragraphs (j)(1), (j)(2), and (j)(3) of this AD are the times specified in the applicable service information, or within 3 months after the effective date of this AD, whichever occurs later. Accomplishing the revision specified in this paragraph terminates the requirements of paragraph (g) of this AD and the provision specified in paragraph (h) of this AD.

(1) Airbus A330 Airworthiness Limitations Section (ALS) Part 2, Damage Tolerant Airworthiness Limitation Items (DT-ALI), Revision 01, issue 02, dated November 30, 2015.

(2) Airbus A330 ALS Part 2, DT-ALI, Variation 1.1, dated December 15, 2015.

(3) Airbus A330 ALS Part 2, DT-ALI, Variation 1.2, dated May 27, 2016.

(k) New Requirement: No Alternative Actions or Intervals

After the maintenance or inspection program, as applicable, has been revised, as required by paragraph (j) of this AD, no alternative actions (e.g., inspections) or intervals may be used unless the actions or intervals are approved as an AMOC in accordance with the procedures specified in paragraph (l)(1) of this AD.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2016-0152, dated July 27, 2016, for related information. This MCAI may be found in the AD docket on the Internet at http://www.regulations.gov by searching for and locating Docket No. FAA-2017-0561.

(2) For more information about this AD, contact Vladimir Ulyanov, Aerospace Engineer, International Section, Transport Standards Branch, FAA, 1601 Lind Avenue SW., Renton, WA 98057-3356; telephone 425-227-1138; fax 425-227-1149.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 25, 2017.

(i) Airbus A330 Airworthiness Limitations Section (ALS) Part 2, Damage Tolerant Airworthiness Limitation Items (DT-ALI), Revision 01, issue 02, dated November 30, 2015.

(ii) Airbus A330 ALS Part 2, DT-ALI, Variation 1.1, dated December 15, 2015.

(iii) Airbus A330 ALS Part 2, DT-ALI, Variation 1.2, dated May 27, 2016.

(4) The following service information was approved for IBR on October 8, 2014 (79 FR 52181, September 3, 2014).

(i) Airbus Document AI/SE-M4/95A.0089/97, “A330 Airworthiness Limitation Items,” Issue 19, dated March 23, 2012.

(ii) Airbus “Variation to Issue 19 of ALI Document (referenced in ALS Part 2) Damage Tolerant Airworthiness Limitation Items (DT-ALI),” variation ref. 0GVLG130002/C01, dated March 26, 2013.

(iii) Airbus “Variation to Issue 19 of ALI Document (referenced in ALS Part 2) Damage Tolerant Airworthiness Limitation Items (DT-ALI),” variation ref. 0GVLG120018/C0S, dated October 24, 2012.

(iv) Airbus “Variation to Issue 19 of ALI Document (referenced in ALS Part 2) Damage Tolerant Airworthiness Limitation Items (DT-ALI),” variation ref. 0GVLG120022/C0S, dated December 21, 2012.

(5) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on September 7, 2017.
Jeffrey E. Duven,
Director, System Oversight Division, Aircraft Certification Service.

[FR Doc. 2017-19656 Filed 9-19-17; 8:45 am]

BILLING CODE 4910-13-P